DEPARTMENT OF DEFENSE

48 CFR Parts 202, 204, 211, 212, 243, and 252

[DFARS Case 2003-D081]

Defense Federal Acquisition Regulation Supplement; Unique Item Identification and Valuation

AGENCY: Department of Defense (DoD).

ACTION: Interim rule with request for comments.

SUMMARY: DoD has issued an interim rule amending Defense Federal Acquisition Regulation Supplement (DFARS) policy pertaining to unique item identification and valuation. This rule contains changes resulting from comments received in response to an interim rule published in the Federal Register on October 10, 2003.

DATES: Effective date: January 1, 2004.

Applicability date: The requirements in this rule apply to all solicitations issued on or after January 1, 2004.

Comment date: Comments on the interim rule should be submitted to the address shown below on or before March 1, 2004, to be considered in the formation of the final rule.

ADDRESSES: Respondents may submit comments directly on the World Wide Web at http://emissary.acq.osd.mil/dar/dfars.nsf/pubcomm. As an alternative, respondents may e-mail comments to: dfars@osd.mil. Please cite DFARS Case 2003-D081 in the subject line of e-mailed comments.

Respondents that cannot submit comments using either of the above methods may submit comments to: Defense Acquisition Regulations Council, Attn: Mr. Steven Cohen, OUSD(AT&L)DPAP(DAR), IMD 3C132, 3062 Defense Pentagon, Washington, DC 20301-3062; facsimile (703) 602-0350. Please cite DFARS Case 2003-D081.

At the end of the comment period, interested parties may view public comments on the World Wide Web at http://emissary.acq.osd.mil/dar/dfars.nsf.

FOR FURTHER INFORMATION CONTACT: Mr. Steven Cohen, (703) 602-0293.

SUPPLEMENTARY INFORMATION:

A. Background

DoD published an interim rule in the Federal Register on October 10, 2003, applicable to all solicitations issued on or after January 1, 2004. The interim rule established requirements for contractors to furnish unique item identifiers, or other item identification, and to provide the Government's acquisition cost of items that are to be delivered under a DoD contract.

Twenty-six sources submitted comments on the interim rule. As a result of the significance of the comments, DoD has issued a second interim rule. The following is a discussion of the comments and the differences between the two rules. Where appropriate, similar comments have been grouped together.

1. Comment: Several comments were made with regard to the aggressiveness of the implementation schedule commencing January 1, 2004.

DoD Response: DoD agrees that the implementation schedule is aggressive. DoD considers the implementation of unique identification to be a strategic imperative, necessary to efficiently move supplies to warfighters. It will enhance logistics, contracting, and financial business transactions supporting U.S. and coalition troops; will enable DoD to consistently capture the value of items it buys, control these items during their use, and combat counterfeiting of parts; and will enable DoD to make appropriate entries into its property accountability, inventory, and financial management information systems toward achieving compliance with the Chief Financial Officers Act. Therefore, the implementation schedule can not be slipped. The clarification and streamlining of the “valuation” process in this new interim rule should assist in making implementation commencing January 1, 2004, achievable.

2. Comment: Several comments were made with regard to the timing of this new requirement, and the need to implement on an accelerated schedule when the aviation industry is suffering from the worst business conditions in the history of the industry.

DoD Response: DoD agrees that the implementation schedule is aggressive. A DoD Policy memo dated November 26, 2003, provides some relief for the aviation industry by including marking consistent with 14 CFR Part 45, Identification and Registration Marking, for aircraft, aircraft engines, propellers, propeller blades, and hubs as consistent with DoD unique identification policy.

3. Comment: Several comments were made with regard to the possibility of waivers from or exceptions to the new requirement.

DoD Response: The rule is considered to be a strategic imperative, necessary to efficiently move supplies to warfighters. No waivers or exceptions can be granted.

4. Comment: Several comments were made with regard to citing MIL-STD-130K, recommending that the more current version be cited.

DoD Response: The rule is consistent with the current MIL-STD-130L. However, the clause at 252.211-7003 has been amended to eliminate reference to a specific MIL-STD-130 version, and to instead require compliance with the version of MIL-STD-130 cited in the contract Schedule.

5. Comment: Numerous comments were received addressing difficulties and confusion with the policy inserted in DFARS 204.7103 and 204.7104 concerning contract line and subline item number structure.

DoD Response: The policy added to DFARS 204.7103 and 204.7104 by the previous interim rule has been removed. The existing policy in DFARS Subpart 204.71 for contract line, subline, and exhibit line item structure is sufficient for the requirements of this rule. Valuation information will be included in the Material Inspection and Receiving Report provided at the time of delivery.

6. Comment: Numerous comments were received addressing the methodology for assessing the Government's acquisition cost of items for cost-type contracts.

DoD Response: As a result of the concerns raised in the comments, DoD has redefined the Government's unit acquisition cost for cost-type line, subline, or exhibit line items, as the Contractor's estimated fully burdened unit cost to the Government for each item at the time of delivery.

7. Comment: Comments were received highlighting confusion among the definitions for “unique item identifier,” “unique item identification,” and the DoD data elements of unique identification.

DoD Response: As a result of the concerns raised in the comments, DoD has amended the clause at DFARS 252.211-7003 to add a definition of “DoD unique item identification” and to clarify the definition of “DoD recognized unique identification equivalent, including a reference to the Web site at http://www.acq.osd.mil/uid, where all DoD recognized unique identification equivalents are listed.

8. Comment: Numerous comments were received highlighting the cost of implementing these requirements, and five comments were received citing the cost burden of implementing these requirements for small businesses.

DoD Response: DoD has determined that it is a strategic imperative that items valued at or above $5,000, or meeting other specified conditions, be marked with unique identification. There are no exceptions. Small businesses will find there are a number of vendors, many of them small businesses, that can provide unique identification marking assistance. DoD considers the cost of implementing unique identification requirements to be an allowable cost under FAR Part 31.

9. Comment: Several comments cited confusion as to what items specifically require unique identification and which do not.

DoD Response: As a result of the concerns raised in the comments, DoD has restructured the policy in DFARS 211.274 and the clause at 252.211-7003 to clarify that all items over $5,000 in value require unique identification, items under $5,000 requiring unique identification must be identified in paragraph (c)(1)(ii) of the clause, and embedded items that require unique identification will be identified in a Contract Data Requirements List or other exhibit that is cited in paragraph (c)(1)(iii) of the clause.

10. Comment: A respondent suggested that a Contract Data Requirements List be used for unique identification when required below the contract line or subline item level.

DoD Response: DoD has revised the rule so that subassemblies, components, and parts that are embedded in items that require unique identification will be identified in a Contract Data Requirements List or other exhibit that is cited in paragraph (c)(1)(iii) of the clause at DFARS 252.211-7003.

11. Comment: Several respondents suggested that unique identification is inconsistent with FAR Part 12, Acquisition of Commercial Items, and that an exception be made for items acquired under FAR Part 12 contracts.

DoD Response: Do not concur. The rule is considered to be a strategic imperative, necessary to efficiently move supplies to warfighters. DoD acquires a large number of items under FAR Part 12 contracts. These items can not be excluded from unique identification requirements.

12. Comment: A respondent asked whether unique identification requirements will apply to classified contracts; another respondent asked whether the requirements will apply to foreign military sales contracts.

DoD Response: Yes. There are no exceptions to the policy.

13. Comment: Several respondents cited problems and confusion resulting from the requirement that acquisition cost be identified a contract line, subline, or informational subline item when structuring the contract, while acquisition cost for cost-type contracts could not be identified until delivery.

DoD Response: The rule has been revised to clarify that the contractor is required to provide the unique identification and the acquisition cost at the time of delivery.

14. Comment: Several comments were received concerning applicability of the rule to existing contracts, orders under existing basic ordering agreements (BOAs), and options under existing contracts.

DoD Response: The rule applies to new solicitations issued on or after January 1, 2004. DoD Policy memorandum dated November 26, 2003, Update to Policy for Unique Identification (UID) of Tangible Items—New Equipment, Major Modifications, and Reprocurements of Equipment and Spares, addresses this issue as follows: “The UID policy strongly encourages Component Acquisition Executives to incorporate UID requirements into ongoing contracts where it makes business sense to do so. Since BOAs awarded before January 1, 2004, would be an ongoing agreement, UID requirements can be included in orders issued under the BOA whenever the program/item manager determines it is feasible to do so.” Component Acquisition Executives should also incorporate UID requirements when exercising options where it makes business sense to do so.

15. Comment: A respondent suggested unique identification is inconsistent with the simplified acquisition threshold, and that the prescription for the clause at DFARS 252.211-7003 should exclude contracts below the simplified acquisition threshold.

DoD Response: Do not concur. The rule is considered to be a strategic imperative, necessary to efficiently move supplies to warfighters. Items acquired under the simplified acquisition threshold can not be excluded from unique identification requirements.

16. Comment: The semantics/syntax (ISO 15434/15418) use unprintable characters for record separators and group separators. It is impossible for the quality organization to verify the validity of the 2D Matrix content if the visual representation of “required” characters is, in-effect, “invisible (unprintable)”. As a part is marked, the ISO 9000 quality requirements specify that the content of the information encoded into the 2D Matrix be verified. “Invisible” characters are “impossible” to verify. As so, this solution may not be ISO 9000 compliant. This should be verified.

DoD Response: The only standard that uses unprintable characters for record separators and group separators is ISO/IEC 15434. It will be sufficient to verify only that the software of the automatic information technology readers and printers used to construct and print the data matrix symbol is compliant with ISO/IEC 15434.

17. Comment: Procedures should be developed to address how unique identification will be constructed when the Government buys items that are surplus, remanufactured, or overhauled after initial manufacture.

DoD Response: If the item does not already have unique identification and meets the criteria for unique identification, the enterprise furnishing the item must provide unique identification marking as part of the purchase price.

18. Comment: In research and development contracting, software is often a deliverable item. In some cases, the software to be delivered is commercial software, and the acquisition cost would be the price paid for the license. However, most of the software being delivered under a research and development contract is software that was developed during performance. The “item” definition neither includes nor excludes software. Is commercial software considered an “item” by definition. Is developed software considered an “item”? Both are required to be delivered, are produced, and are tangible. However, one could also argue that developed software is data, because the source and object code and manuals are delivered via the use of Contract Data Requirements Lists. Therefore, the acquisition cost of the medium (CD, disk) in which the software is delivered would be minimal and would not meet the threshold requirements of the clause.

DoD Response: For purposes of unique identification and valuation, software, manuals, and other forms of information are not considered to be “items”. The definition of “item” has been changed to refer to “a single hardware article or unit formed by a grouping of subassemblies, components, or constituent parts” to clarify this point.

19. Comment: Two respondents suggested there is no value to the rule.

DoD Response: Do not concur. These are subjective judgments. DoD finds considerable value in the rule.

20. Comment: One respondent suggested that the rule was unclear and should be redrafted.

DoD Response: DoD has redrafted significant portions of the rule to improve clarity.

21. Comment: One respondent asked how the Government would identify which type of identification system the contractor is using, if multiple choices were allowed, and whether Government personnel would have to be educated on the different identification systems?

DoD Response: Marking must be in accordance with the version of MIL-STD-130 in effect at the time of contract award, regardless of the system used to mark items. Government personnel are familiar with the MIL-STD-130.

22. Comment: A respondent asked whether references to “cost” should be changed to “value,” and whether all references to contract line item structure should be incorporated in the prescriptive language of DFARS Part 204 rather than DFARS Part 11 requirements policy.

DoD Response: For clarity, all references to “value” have been removed, and “unit acquisition cost” has been more clearly defined. This interim rule removes the prescriptive policy in DFARS Part 204 that was added by the previous interim rule.

23. Comment: A respondent asked whether valuation needs to be captured down to zero. The respondent suggested that the cost of capturing the value of low-dollar items under cost-type contracts may exceed the benefits.

DoD Response: The definition of “unit acquisition cost” under cost-type line items has been changed to capture the contractor's estimate of the Government's unit cost. This should avoid the unnecessary administrative burden envisioned by the respondent.

24. Comment: A respondent asked how development items are to be handled. For example, how will a subline item for development work on one or more pieces of hardware be identified and part numbered?

DoD Response: The estimated unit acquisition cost for a development item will be handled the same as the estimated unit acquisition cost for any other delivered item. The contractor will use its business judgment to provide the Government with its best estimate of the fully burdened cost to the Government.

25. Comment: A respondent asked how modification kits that are not separately stock listed items, but comprise several hundred individual parts/items, would be handled.

DoD Response: Modification kits will be handled the same as any other delivered item. Subassemblies, components, or parts that are embedded within the kit will need to be separately identified if unique identification is required, but acquisition cost will not be required.

26. Comment: A respondent suggested that the clause at DFARS 252.211-7003 should be limited to the marking requirements (formerly paragraphs (a) thru (c)) and the flow down requirement (formerly paragraph (f)). The respondent suggested that former paragraph (d), Item records, duplicates data that already exists either in the contract or on the associated DD 250/Memo of Shipment. The only exception is the unique identification itself.

DoD Response: Concur in part. The rule has been amended to specify that the data required by the clause will be submitted in the Material Inspection and Receiving Report. As a result, DoD was able to eliminate the DFARS part 204 line item structure requirements for this data.

27. Comment: A respondent suggested that the contractor should be told how long the assigned unique identification data should be maintained. For example, most contract data presently must be maintained until final contract payment plus 3 years. If the Government wished the unique identification data to be maintained longer, it should be stated here. Alternatively, if the only requirement is that the contractor ensure that a unique identifier is not duplicated, this is not a records retention requirement, but rather a requirement to ensure a system is set up to avoid duplication. Therefore, record retention would be up to the contractor.

DoD Response: The clause at DFARS 252.211-7003 defines “Unique item identifier” as a set of data marked on items that is globally unique, unambiguous, and robust enough to ensure data information quality throughout life and to support multi-faceted business applications and users.

28. Comment: A respondent suggested that the Valuation paragraph (formerly paragraph (e)) of the clause at 252.211-7003, is unnecessary. The assignment of value for items to be delivered to the Government should be a contracting officer responsibility under DFARS 204.7103. The language in the rule creates an additional “reporting” requirement that is inconsistent with existing processes and the Paperwork Reduction Act determination.

DoD Response: Do not concur. The valuation portion of the rule is the data currently provided on the DD Form 250, Material Inspection and Receiving Report.

29. Comment: DFARS Appendix F should be revised to specify the data the Government needs on the DD Form 250 or Memo of Shipment. These existing documents should be the vehicle through which the Government collects the desired data. Most of the data listed in the Item records paragraph (formerly paragraph (d)) of the clause at DFARS 252.211-7003 is already available in the contract and on the DD250/Memo of Shipment. The DFARS rule should require contractors to continue to provide that data on those documents with the addition of the unique identification specific data; once Wide Area WorkFlow revisions are fully operational, the Government will have the data and the mechanism to populate its data base without further contractor intervention.

DoD Response: Revisions to DFARS Appendix F are being considered separately under DFARS Case 2003-D085, as part of DoD's DFARS Transformation Initiative.

This rule was not subject to Office of Management and Budget review under Executive Order 12866, dated September 30, 1993.

B. Regulatory Flexibility Act

This rule may have a significant economic impact on a substantial number of small entities within the meaning of the Regulatory Flexibility Act, 5 U.S.C. 601, et seq. DoD has prepared an initial regulatory flexibility analysis, which is summarized as follows:

This interim rule contains requirements for DoD contractors to provide unique identification for items delivered to DoD, through the use of item identification marking. In addition, the rule contains requirements for DoD contractors to identify the Government's unit acquisition cost of all hardware items delivered under a contract. The objective of the rule is to improve management of DoD assets. DoD considers this rule to be a strategic imperative, necessary to efficiently move supplies to warfighters. This rule will facilitate DoD compliance with the Chief Financial Officers Act of 1990 (Pub. L. 101-576). The rule does not duplicate, overlap, or conflict with any other Federal rules. There are no known significant alternatives that will accomplish the objectives of the rule.

A copy of the analysis may be obtained from the point of contact specified herein.

C. Paperwork Reduction Act

The Paperwork Reduction Act does not apply because the rule does not impose any new information collection requirements that require the approval of the Office of Management and Budget under 44 U.S.C. 3501, et seq.

D. Determination To Issue an Interim Rule

A determination has been made under the authority of the Secretary of Defense that urgent and compelling reasons exist to publish an interim rule prior to affording the public an opportunity to comment. This interim rule contains requirements for contractors to uniquely mark and to identify the Government's unit acquisition cost of items delivered to DoD. DoD considers the implementation of unique identification to be a strategic imperative, necessary to efficiently move supplies to warfighters. It will enhance logistics, contracting, and financial business transactions supporting U.S. and coalition troops; will enable DoD to consistently capture the value of items it buys, control these items during their use, and combat counterfeiting of parts; and will enable DoD to make appropriate entries into its property accountability, inventory, and financial management information systems toward achieving compliance with the Chief Financial Officers Act.

On October 10, 2003, DoD issued an interim rule to implement unique identification policy, effective January 1, 2004. As a result of public comments received on the interim rule, DoD has determined that significant changes are needed to streamline and clarify the rule and to ensure effective implementation of DoD's unique identification policy. Comments received in response to this interim rule will be considered in the formation of the final rule.

List of Subjects in 48 CFR Parts 202, 204, 211, 212, 243, and 252

Government procurement.

Michele P. Peterson,
Executive Editor, Defense Acquisition Regulations Council.

Therefore, 48 CFR Parts 202, 204, 211, 212, 243, and 252 are amended as follows:

1. The authority citation for 48 CFR Parts 202, 204, 211, 212, 243, and 252 continues to read as follows:

Authority: 41 U.S.C. 421 and 48 CFR Chapter 1.

PART 202—DEFINITIONS OF WORDS AND TERMS

202.101 [Amended]

2. Section 202.101 is amended by removing the definition of “Unique item identifier”, which was added at 68 FR 58632 on October 10, 2003, to become effective on January 1, 2004.

PART 204—ADMINISTRATIVE MATTERS

3. Section 204.7104-1 is amended by revising paragraph (a)(3) to read as follows:

204.7104-1 Criteria for establishing.

* * * * *

(a) * * *

(3) Informational subline items shall be used to identify each accounting classification citation assigned to a single contract line item number when use of multiple citations is authorized (see 204.7103-1(a)(4)(ii)).

* * * * *

204.7104-2 [Amended]

4. Section 204.7104-2 is amended by removing paragraphs (e)(10) and (11), which were added at 68 FR 58632 on October 10, 2003, to become effective on January 1, 2004.

PART 211—DESCRIBING AGENCY NEEDS

5. Sections 211.274 through 211.274-3, which were added at 68 FR 58633 on October 10, 2003, to become effective on January 1, 2004, are revised to read as follows:

211.274 Item identification and valuation.

211.274-1 Item identification.

(a) DoD unique item identification, or a DoD recognized unique identification equivalent, is required for—

(1) All items for which the Government's unit acquisition cost is $5,000 or more;

(2) Items for which the Government's unit acquisition cost is less than $5,000, when determined necessary by the requiring activity for serially managed, mission essential, or controlled inventory equipment, repairable items, or consumable items or material; and

(3) Subassemblies, components, and parts embedded within an item identified on a Contract Data Requirements List or other exhibit (see http://www.acq.osd.mil/uid).

(b) If unique item identification is not required, the contractor shall provide commonly accepted commercial marks.

211.274-2 Government's unit acquisition cost.

(a) Contractors shall identify the Government's unit acquisition cost for all items delivered.

(b) The Government's unit acquisition cost is—

(1) For fixed-price type line, subline, or exhibit line items, the unit price identified in the contract at the time of delivery.

(2) For cost-type line, subline, or exhibit line items, the contractor's estimated fully burdened unit cost to the Government for each item at the time of delivery.

(c) The Government's unit acquisition cost of subassemblies, components, and parts embedded in delivered items need not be identified.

211.274-3 Contract clause.

Use the clause at 252.211-7003, Item Identification and Valuation, in solicitations and contracts that require delivery of one or more “items” as defined at 252.211-7003(a).

(a) Complete paragraph (c)(1)(ii) of the clause with the contract line, subline, or exhibit line item number and description of any item(s) below $5,000 in unit acquisition cost for which the requiring activity determines that DoD unique item identification or a DoD recognized unique identification equivalent is required.

(b) Complete paragraph (c)(1)(iii) of the clause with the applicable exhibit number or Contract Data Requirements List item number, when DoD unique item identification or a DoD recognized unique identification equivalent is required for subassemblies, components, or parts embedded within deliverable items.

PART 212—ACQUISITION OF COMMERCIAL ITEMS

212.301 [Amended]

6. Section 212.301 is amended by redesignating paragraph (f)(vii), which was added at 68 FR 58633 on October 10, 2003, to become effective on January 1, 2004, as paragraph (f)(vi).

PART 243—CONTRACT MODIFICATIONS

243.171 [Amended]

7. Amendment 7 to section 243.171, which was published at 68 FR 58633 on October 10, 2003, is removed.

PART 252—SOLICITATION PROVISIONS AND CONTRACT CLAUSES

8. Section 252.211-7003, which was added at 68 FR 58633 on October 10, 2003, to become effective on January 1, 2004, is revised to read as follows:

252.211-7003 Item Identification and Valuation.

As prescribed in 211.274-3, use the following clause:

Item Identification and Valuation (Jan 2004)

(a) Definitions. As used in this clause—

Automatic identification device means a device, such as a reader or interrogator, used to retrieve data encoded on machine-readable media.

Commonly accepted commercial marks means any system of marking products for identification that is in use generally throughout commercial industry or within commercial industry sectors. Some examples of commonly accepted commercial marks are: EAN.UCC Global Trade Item Number; Automotive Industry Action Group B-4 Parts Identification and Tracking Application Standard, and B-2 Vehicle Identification Number Bar Code Label Standard; American Trucking Association Vehicle Maintenance Reporting Standards; Electronic Industries Alliance EIA 802 Product Marking Standard; and Telecommunications Manufacturers Common Language Equipment Identification Code.

Concatenated unique item identifier means—

(1) For items that are serialized within the enterprise identifier, the linking together of the unique identifier data elements in order of the issuing agency code, enterprise identifier, and unique serial number within the enterprise identifier; or

(2) For items that are serialized within the original part number, the linking together of the unique identifier data elements in order of the issuing agency code, enterprise identifier, original part number, and serial number within the part number.

Data qualifier means a specified character (or string of characters) that immediately precedes a data field that defines the general category or intended use of the data that follows.

DoD recognized unique identification equivalent means a unique identification method that is in commercial use and has been recognized by DoD. All DoD recognized unique identification equivalents are listed at http://www.acq.osd.mil/uid.

DoD unique item identification means marking an item with a unique item identifier that has machine-readable data elements to distinguish it from all other like and unlike items. In addition—

(1) For items that are serialized within the enterprise identifier, the unique identifier shall include the data elements of issuing agency code, enterprise identifier, and a unique serial number.

(2) For items that are serialized within the part number within the enterprise identifier, the unique identifier shall include the data elements of issuing agency code, enterprise identifier, the original part number, and the serial number.

Enterprise means the entity (i.e., a manufacturer or vendor) responsible for assigning unique item identifiers to items.

Enterprise identifier means a code that is uniquely assigned to an enterprise by a registration (or controlling) authority.

Government's unit acquisition cost means—

(1) For fixed-price type line, subline, or exhibit line items, the unit price identified in the contract at the time of delivery; and

(2) For cost-type line, subline, or exhibit line items, the Contractor's estimated fully burdened unit cost to the Government for each item at the time of delivery.

Issuing agency code means a code that designates the registration (or controlling) authority.

Item means a single hardware article or unit formed by a grouping of subassemblies, components, or constituent parts required to be delivered in accordance with the terms and conditions of this contract.

Machine-readable means an automatic information technology media, such as bar codes, contact memory buttons, radio frequency identification, or optical memory cards.

Original part number means a combination of numbers or letters assigned by the enterprise at asset creation to a class of items with the same form, fit, function, and interface.

Registration (or controlling) authority means an organization responsible for assigning a non-repeatable identifier to an enterprise (i.e., Dun & Bradstreet's Data Universal Numbering System (DUNS) Number, Uniform Code Council (UCC)/EAN International (EAN) Company Prefix, or Defense Logistics Information System (DLIS) Commercial and Government Entity (CAGE) Code).

Serial number within the enterprise identifier or unique serial number means a combination of numbers, letters, or symbols assigned by the enterprise to an item that provides for the differentiation of that item from any other like and unlike item and is never used again within the enterprise.

Serial number within the part number or serial number means a combination of numbers or letters assigned by the enterprise to an item that provides for the differentiation of that item from any other like item within a part number assignment.

Serialization within the enterprise identifier means each item produced is assigned a serial number that is unique among all the tangible items produced by the enterprise and is never used again. The enterprise is responsible for ensuring unique serialization within the enterprise identifier.

Serialization within the part number means each item of a particular part number is assigned a unique serial number within that part number assignment. The enterprise is responsible for ensuring unique serialization within the part number within the enterprise identifier.

Unique item identification means marking an item with machine-readable data elements to distinguish it from all other like and unlike items.

Unique item identifier means a set of data marked on items that is globally unique, unambiguous, and robust enough to ensure data information quality throughout life and to support multi-faceted business applications and users.

Unique item identifier type means a designator to indicate which method of uniquely identifying a part has been used. The current list of accepted unique item identifier types is maintained at http://www.acq.osd.mil/uid.

(b) The Contractor shall deliver all items under a contract line, subline, or exhibit line item.

(c) Unique item identification.

(1) The Contractor shall provide DoD unique item identification, or a DoD recognized unique identification equivalent, for—

(i) All items for which the Government's unit acquisition cost is $5,000 or more; and

(ii) The following items for which the Government's unit acquisition cost is less than $5,000:

Contract Line, Subline, or

Exhibit Line Item Number

Item Description

(iii) Subassemblies, components, and parts embedded within items as specified in Exhibit Number ___ or Contract Data Requirements List Item Number ___.

(2) The unique item identifier and the component data elements of the unique item identifier shall not change over the life of the item.

(3) Data syntax and semantics. The Contractor shall—

(i) Mark the encoded data elements (except issuing agency code) on the item using any of the following three types of data qualifiers, as specified elsewhere in the contract:

(A) Data Identifiers (DIs) (Format 06).

(B) Application Identifiers (AIs) (Format 05), in accordance with ISO/IEC International Standard 15418, Information Technology—EAN/UCC Application Identifiers and ASC MH 10 Data Identifiers and ASC MH 10 Data Identifiers and Maintenance.

(C) Text Element Identifiers (TEIs), in accordance with the DoD collaborative solution “DD” format for use until the final solution is approved by ISO JTC1/SC 31. The DoD collaborative solution is described in Appendix D of the DoD Guide to Uniquely Identifying Items, available at http://www.acq.osd.mil/uid; and

(ii) Use high capacity automatic identification devices in unique identification that conform to ISO/IEC International Standard 15434, Information Technology—Syntax for High Capacity Automatic Data Capture Media.

(4) Marking items.

(i) Unless otherwise specified in the contract, data elements for unique identification (enterprise identifier, serial number, and, for serialization within the part number only, original part number) shall be placed on items requiring marking by paragraph (c)(1) of this clause in accordance with the version of MIL-STD-130, Identification Marking of U.S. Military Property, cited in the contract Schedule.

(ii) The issuing agency code—

(A) Shall not be placed on the item; and

(B) Shall be derived from the data qualifier for the enterprise identifier.

(d) Commonly accepted commercial marks. The Contractor shall provide commonly accepted commercial marks for items that are not required to have unique identification under paragraph (c) of this clause.

(e) Material Inspection and Receiving Report. The Contractor shall report at the time of delivery, as part of the Material Inspection and Receiving Report specified elsewhere in this contract, the following information:

(1) Description.*

(2) Unique identifier**, consisting of—

(i) Concatenated DoD unique item identifier; or

(ii) DoD recognized unique identification equivalent.

(3) Unique item identifier type.**

(4) Issuing agency code (if DoD unique item identifier is used).**

(5) Enterprise identifier (if DoD unique item identifier is used).**

(6) Original part number.**

(7) Serial number.**

(8) Quantity shipped.*

(9) Unit of measure.*

(10) Government's unit acquisition cost.*

(11) Ship-to code.

(12) Shipment date.

(13) Contractor's CAGE code or DUNS number.

(14) Contract number.

(15) Contract line, subline, or exhibit line item number.*

(16) Acceptance code.

* Once per contract line, subline, or exhibit line item.

** Once per item.

(f) Material Inspection and Receiving Report for embedded subassemblies, components, and parts requiring unique item identification. The Contractor shall report at the time of delivery, as part of the Material Inspection and Receiving Report specified elsewhere in this contract, the following information:

(1) Unique item identifier of the item delivered under a contract line, subline, or exhibit line item that contains the embedded subassembly, component, or part.

(2) Unique item identifier of the embedded subassembly, component, or part, consisting of—

(i) Concatenated DoD unique item identifier; or

(ii) DoD recognized unique identification equivalent.

(3) Unique item identifier type.**

(4) Issuing agency code (if DoD unique item identifier is used).**

(5) Enterprise identifier (if DoD unique item identifier is used).**

(6) Original part number.**

(7) Serial number.**

(8) Unit of measure.

(9) Description.

** Once per item.

(g) The Contractor shall submit the information required by paragraphs (e) and (f) of this clause in accordance with the procedures at http://www.acq.osd.mil.uid.

(h) Subcontracts. If paragraph (c)(1)(iii) of this clause applies, the Contractor shall include this clause, including this paragraph (h), in all subcontracts issued under this contract.

(End of clause)

[FR Doc. 03-31951 Filed 12-29-03; 8:45 am]

BILLING CODE 5001-08-P